DEPARTMENT OF COMMERCE

National Oceanic and Atmospheric Administration

Proposed Information Collection; Comment Request; Pacific Billfish Angler Survey

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 17, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to David Holts, Southwest Fishery Science Center, 8604 La Jolla Shores Drive, La Jolla, CA 92037-1508 (phone 858-546-7186 or David.Holts@noaa.gov.)

SUPPLEMENTARY INFORMATION:

I. Abstract

The Billfish Angler Survey provides the only estimates of billfish angling activities in the Pacific and Indian Oceans. This collection of recreational billfish catch and effort data began in 1969 and now provides a 37 year index of fishing success in many areas of the Pacific. The catch per unit of effort (CPUE) is measured in catch of billfish per angler fishing day. This time series of angler success provides a measure of relative abundance and is the only survey independent of commercial fisheries in the Pacific. Trends tracked over time indicate changes in the health and size of billfish stocks. This index of relative abundance is an important component of stock assessments, developing management options and monitoring domestic and international fishery interactions.

II. Method of Collection

A paper form the size of a postcard is used.

III. Data

OMB Number: 0648-0020.

Form Number: NOAA Form 88-162.

Type of Review: Regular submission.

Affected Public: Individuals or households.

Estimated Number of Respondents: 1,500.

Estimated Time Per Response: 5 minutes.

Estimated Total Annual Burden Hours: 125.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 13, 2005.
Gwellnar Banks,
Management Analyst, Office of the Chief Information Officer.

[FR Doc. E5-7468 Filed 12-16-05; 8:45 am]

BILLING CODE 3510-22-P